DEPARTMENT OF LABOR

Employment and Training Administration

[TA-W-65,912]

L and L Products, Romeo, MI; Notice of Termination of Investigation

Pursuant to Section 221 of the Trade Act of 1974, as amended, an investigation was initiated on May 12, 2009 in response to a petition filed on behalf of workers of L and L Products, Romeo, Michigan.

The petitioners have requested that the petition be withdrawn. Consequently, the investigation has been terminated.

Signed at Washington, DC, this 15th day of May 2009.
Elliott S. Kushner,
Certifying Officer, Division of Trade Adjustment Assistance.

[FR Doc. E9-15217 Filed 6-26-09; 8:45 am]

BILLING CODE 4510-FN-P